FEDERAL MARITIME COMMISSION

Ocean Freight Forwarder License Revocations

The Federal Maritime Commission hereby gives notice that the following freight forwarder licenses have been revoked pursuant to section 19 of the Shipping Act of 1984 (46 U.S.C. app. 1718) and the regulations of the Commission pertaining to the licensing of Ocean Transportation Intermediaries, effective on the corresponding revocation dates shown below:

License Number: 26

Name: Advance Brokers Ltd.

Address: 135 American Legion Highway, Revere, MA 02151

Date Revoked: June 23, 1999

Reason: Failed to maintain a valid bond

License Number: 3603

Name: Alianza Enterprises, Inc.

Address: 3701 Williams Blvd., Suite 201, P.O. Box 640126, Kenner, LA 70064-0126

Date Revoked: December 21, 1999

Reason: Surrendered license voluntarily

License Number: 1643

Name: All Sea & Air Forwarding Co., Inc.

Address: 841 Pioneer Avenue, Wilmington, CA 90744-3748

Date Revoked: December 1, 1999

Reason: Surrendered license voluntarily

License Number: 1626

Name: Dulles International Customhouse Brokerage Corp. d/b/a Chantilly Freight Corporation

Address: 44845 Falcon Place, Suite 109, Sterling, VA 20166

Date Revoked: December 3, 1999

Reason: Failed to maintain a valid bond

License Number: 3310

Name: Fond Express, Inc.

Address: 10420 La Cienega Blvd., Inglewood, CA 90304

Date Revoked: June 26, 1999

Reason: Failed to maintain a valid bond

License Number: 4311

Name: International Exports and Marketing Inc.

Address: 116 Jane Street, St. Rose, LA 70087

Date Revoked: July 8, 1999

Reason: Failed to maintain a valid bond

License Number: 3392

Name: Junior R. Wong d/b/a JBJ Shipping

Address: 285 Archer Avenue, Copiague, NY 11726

Date Revoked: June 27, 1999

Reason: Failed to maintain a valid bond

License Number: 3373

Name: Kil Moon Chang

Address: 17518 Sybrandy Avenue, Cerritos, CA 90703

Date Revoked: August 29, 1999

Reason: Failed to maintain a valid bond

License Number: 4303

Name: Michael W. Birch d/b/a Central Export Services

Address: 502 13th Street, Modesto, CA 95354

Date Revoked: July 29, 1999

Reason: Failed to maintain a valid bond

License Number: 2574

Name: Stute International Inc.

Address: 10 Exchange Place, Suite 1608, Jersey City, NJ 07302

Date Revoked: December 31, 1999

Reason: Surrendered license voluntarily

License Number: 2254

Name: Victoria Genaro d/b/a Gulf-Continental Forwarding Co.

Address: 4844 Sierra Madre Drive, P.O. Box 26605, New Orleans, LA 70186-6605

Date Revoked: July 23, 1999

Reason: Failed to maintain a valid bond

T. A. Zook,
Deputy Director, Bureau of Tariffs, Certification and Licensing.

[FR Doc. 00-4934 Filed 2-29-00; 8:45 am]

BILLING CODE 6730-01-P